DEPARTMENT OF HEALTH AND HUMAN SERVICES

Health Resources and Services Administration

Agency Information Collection Activities: Proposed Collection: Public Comment Request; Information Collection Request Title: Substance Use Disorder Treatment and Recovery Loan Repayment Program and the Pediatric Specialty Loan Repayment Program

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than May 8, 2023.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer, at (301) 443-9094.

SUPPLEMENTARY INFORMATION:

Information Collection Request Title: Substance Use Disorder Treatment and Recovery Loan Repayment Program and the Pediatric Specialty Loan Repayment Program, OMB No. 0906-0058—Revision

Abstract: The Consolidated Appropriations Act, 2023 included $40,000,000 for the Substance Use Disorder Treatment and Recovery (STAR) Loan Repayment Program (LRP). This funding will allow HRSA to provide the repayment of education loans for individuals working in a full-time substance use disorder treatment job that involves direct patient care in either a Health Professional Shortage Area (HPSA) designated for Mental Health, or a county where the average drug overdose death rate exceeds the national average. The Further Consolidated Appropriations Act, 2022 and the Consolidated Appropriations Act, 2023 included $5,000,000 and $10,000,000, respectively, for HRSA to award eligible individuals through the Pediatric Specialty LRP. This funding will allow HRSA to provide the repayment of education loans to pediatric medical subspecialist, pediatric surgical specialist, and child and adolescent mental and behavioral health care providers working full-time in or serving a HPSA, medically underserved area (MUA), or medically underserved population (MUP). This information collection request adds the Pediatric Specialty LRP and relevant forms.

The Department of Health and Human Services agrees to make payment of up to $250,000 for the repayment of eligible educational loans in return for 6 years of service obligation through the STAR LRP, and up to $100,000 in return for 3 years of service obligation through the Pediatric Specialty LRP. The forms utilized by the STAR LRP and the Pediatric Specialty LRP include the following: the LRP Application, the Authorization for Disclosure of Loan Information form, the Privacy Act Release Authorization form, and the electronic Employment Verification form., if applicable. The forms collect information needed for selecting participants and repaying eligible educational loans.

Eligible disciplines for the STAR LRP and the Pediatric Specialty LRP include, but are not limited to physicians, psychologists, psychiatric nurses, marriage and facility therapists, social workers, counselors, and substance use disorder counselors. Additional providers that are exclusively eligible for the Pediatric Specialty LRP include pediatric medical subspecialty, pediatric surgical specialty, and child and adolescent mental and behavioral health care providers.

Eligible facilities or sites for the STAR LRP and Pediatric Specialty LRP programs include, but are not limited to: School-Based Clinics, Community Health Centers, Inpatient Programs/Rehabilitation Centers, Federally Qualified Health Centers, Centers for Medicare & Medicaid Services-approved Critical Access Hospitals, American Indian Health Facilities (Indian Health Service Facilities, Tribally-Operated 638 Health Programs, and Urban Indian Health Programs), inpatient rehabilitation centers, and psychiatric facilities. STAR LRP facilities must be located in a mental health HPSA or a county where the average drug overdose death rate exceeds the national average. Pediatric Specialty LRP sites must provide pediatric medical subspecialty care, pediatric surgical specialty care, or child and adolescent mental and behavioral health care in or to a HPSA, MUA, or MUP. HRSA will approve and activate sites for the Pediatric Specialty LRP if:

(1) The facility is already approved for the National Health Service Corps, Nurse Corps, or STAR LRP and located in or serves a HPSA, MUA or MUP; or

(2) During the Pediatric Specialty LRP application cycle, the facility submits to HRSA the site type and the point of contact(s) to PS_LRP_Sites@hrsa.gov.

HRSA will review and approve new facilities during the respective application cycle for the STAR LRP and the Pediatric Specialty LRP. New facilities must submit to HRSA the facility type and the recruitment contact(s). HRSA will use the information collected to determine eligibility of the facility for the assignment of health professionals and to verify the need for clinicians. Note: Despite the similarity in the titles, the STAR LRP is not the existing National Health Service Corps Substance Use Disorder LRP (OMB #0915-0127), which is authorized under Title III of the Public Health Service Act. The STAR LRP is authorized under Title VII of the Public Health Service Act and has different service requirements, loan repayment protocols, and authorized employment facilities.

Need and Proposed Use of the Information: The need and purpose of this information collection is to obtain information that is used to assess an applicant's eligibility and qualifications for the STAR LRP and the Pediatric Specialty LRP, and to obtain information for eligible facilities or sites. Clinicians interested in participating in the STAR LRP or the Pediatric Specialty LRP must apply to the applicable program to participate. Additionally, health care facilities located in a high overdose death rate area or mental health HPSAs must submit the facility type and the site point(s) of contact(s) for HRSA to determine the facility's eligibility to participate in the STAR LRP. Similarly, sites located in or serving a HPSA, MUA, or MUP must submit the site type and the site point(s) of contact(s) for HRSA to determine the sites' eligibility to participate in the Pediatric Specialty LRP. The STAR LRP and the Pediatric Specialty LRP application asks for personal, professional, and financial information needed to determine the applicant's eligibility to participate in either of the programs. In addition, applicants must provide information regarding the loans for which repayment is being requested.

Likely Respondents: Licensed medical, mental, and behavioral health providers who are employed or seeking employment, and are interested in serving underserved populations; and health care facilities or sites interested in participating in the STAR LRP and/or the Pediatric Specialty LRP, and becoming an approved facility or site.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the tables below.

Total Estimated Annualized Burden Hours for the STAR LRP
Form name | Number of respondents | Number of responses per respondent | Total responses | Average burden per response (in hours) | Total burden hours
STAR LRP Application | 3,200 | 1 | 3,200 | .50 | 1,600
Authorization for Disclosure of Loan Information Form | 3,200 | 1 | 3,200 | .50 | 1,600
Privacy Act Release Authorization Form | 3,200 | 1 | 3,200 | .50 | 1,600
Employment Verification Form | 3,200 | 1 | 3,200 | .50 | 1,600
Total | 12,800 |  | 12,800 |  | 6,400

Total Estimated Annualized Burden Hours for the Pediatric Specialty LRP
Form name | Number of respondents | Number of responses per respondent | Total responses | Average burden per response (in hours) | Total burden hours
Pediatric Specialty LRP Application | 500 | 1 | 500 | .50 | 250
Authorization for Disclosure of Loan Information Form | 500 | 1 | 500 | .50 | 250
Privacy Act Release Authorization Form | 500 | 1 | 500 | .50 | 250
Employment Verification Form | 500 | 1 | 500 | .50 | 250
Total | 2,000 |  | 2,000 |  | 1,000

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-04725 Filed 3-7-23; 8:45 am]

BILLING CODE 4165-15-P